DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 7, 2005.

Interested persons are invited to submit written comments regarding the subject matter of the investigations to the Director, Division of Trade Adjustment Assistance, at the address shown below, not later than April 7, 2005.

The petitions filed in this case are available for inspection at the Office of the Director, Division of Trade Adjustment Assistance, Employment and Training Administration, U.S. Department of Labor, Room C-5311, 200 Constitution Avenue, NW., Washington, DC 20210.

Signed at Washington, DC, this 18th day of March 2005.
Timothy Sullivan,
Director, Division of Trade Adjustment Assistance.

Appendix
[Petitions Instituted Between 03/07/2005 and 03/11/2005]
TA-W | Subject firm (petitioners) | Location | Date of institution | Date of petition
56,689 | Jones Apparel Group (Wkrs) | Rural Hall, NC | 03/07/2005 | 03/04/2005
56,690 | Qualex, Inc. (Wkrs) | Durham, NC | 03/07/2005 | 02/28/2005
56,691 | Worldtex, Inc. (Comp) | Hickory, NC | 03/07/2005 | 02/28/2005
56,692 | Wiremold/Legrand (Comp) | Philadelphia, PA | 03/07/2005 | 03/04/2005
56,693 | United Plywood Industries (Comp) | Mockville, NC | 03/07/2005 | 02/25/2005
56,694 | Colortronic, Inc. (State) | Runnemede, NJ | 03/07/2005 | 03/04/2005
56,695 | Tyco Electronics-Tyco Printed CircuitGrp | Stafford, CT | 03/07/2005 | 03/04/2005
56,696 | Hewlett-Packard Company | Corvallis, OR | 03/08/2005 | 03/07/2005
56,697 | B Machine Products, Inc. (Comp) | Parkersburg, WV | 03/08/2005 | 02/24/2005
56,698 | Domtar Inc. (PACE) | Baileyville, ME | 03/08/2005 | 03/04/2005
56,699 | Bartech Technical Services (Wkrs) | Warren, OH | 03/08/2005 | 02/09/2005
56,700 | CIBC World Markets (Wkrs) | Atlanta, GA | 03/08/2005 | 02/28/2005
56,701 | Twigs and Ivy Boutique (Wkrs) | Potosi, MO | 03/08/2005 | 02/10/2005
56,702 | Fairbanks Morse Engine (USWA) | Beloit, WI | 03/08/2005 | 03/07/2005
56,703 | Top Flight, Inc. (Comp) | Chattanooga, TN | 03/08/2005 | 03/04/2005
56,704 | Lockheed Martin Aeronautics (Wkrs) | Fort Worth, TX | 03/08/2005 | 03/07/2005
56,705 | Marlatex Corporation (Comp) | Belmont, NC | 03/08/2005 | 03/07/2005
56,706 | Plus Mark (Wkrs) | Franklin, TN | 03/08/2005 | 02/25/2005
56,707 | Kopin Corporation (Comp) | Taunton, MA | 03/10/2005 | 03/08/2005
56,708 | AVX Corporation (Comp) | Raleigh, NC | 03/10/2005 | 03/08/2005
56,709 | American Identity (Comp) | Marcus, IA | 03/10/2005 | 03/08/2005
56,710 | Laidlaw (State) | Dundalk, MD | 03/10/2005 | 03/08/2005
56,711 | Jacobs Chuck Manufacturing (Wkrs) | Clemson, SC | 03/10/2005 | 02/24/2005
56,712 | Dallco Industries, Inc. (Comp) | York, PA | 03/10/2005 | 02/21/2005
56,713 | Seagate (State) | Bloomington, MN | 03/10/2005 | 03/08/2005
56,714 | Briess Malt and Ingredients (UAW) | Waterloo, WI | 03/10/2005 | 03/09/2005
56,715 | International Paper (Wkrs) | Eighty Four, PA | 03/10/2005 | 02/17/2005
56,716 | Northern Steel Castings (Wkrs) | Kenosha, WI | 03/10/2005 | 03/07/2005
56,717 | Victor Insulators (Wkrs) | Victor, NY | 03/10/2005 | 02/23/2005
56,718 | I.H. Apparel Group, LLC (Wkrs) | New York, NY | 03/10/2005 | 02/23/2005
56,719 | Donegal Industries (UNITE) | Mount Joy, PA | 03/10/2005 | 02/22/2005
56,720 | Automatic Welding (Wkrs) | Ashland, OH | 03/10/2005 | 02/17/2005
56,721 | New Campaign, Inc. (Wkrs) | Norfolk, VA | 03/10/2005 | 02/28/2005
56,722 | Allied Mold and Die Company (Wkrs) | Fontana, CA | 03/10/2005 | 02/22/2005
56,723 | Brookwood Furniture (Comp) | Bruce, MS | 03/10/2005 | 03/08/2005
56,724 | American Pad and Paper, LLC (Comp) | Westfield, MA | 03/10/2005 | 03/08/2005
56,725 | Bridgeport Metal Goods, Inc. (Comp) | Hinsdale, NH | 03/10/2005 | 03/08/2005
56,726 | Bob Timberlake, Inc. (Comp) | Lexington, NC | 03/10/2005 | 03/09/2005
56,727 | Stinson Seafood (Comp) | Bath, ME | 03/10/2005 | 03/04/2005
56,728 | Alcon Packaging (Comp) | Bethlehem, PA | 03/10/2005 | 03/09/2005
56,729 | Agilent Technologies (State) | Ft. Collins, CO | 03/10/2005 | 02/23/2005
56,730 | Heritage Sportswear, LLC (Comp) | Marion, SC | 03/10/2005 | 03/08/2005
56,731 | Creo Americas, Inc. (State) | Woodland Hills, CA | 03/10/2005 | 03/09/2005
56,732 | Eaton (Comp) | Everett, WA | 03/10/2005 | 03/09/2005
56,733 | Cadiac Care, Inc. (State) | Cottonwood, AZ | 03/10/2005 | 02/17/2005
56,734 | Penn Fishing Tackle Mfg. Co. (Comp) | Hegins, PA | 03/10/2005 | 03/07/2005
56,735 | Beltone Electronic Corporation (State) | Chicago, IL | 03/10/2005 | 02/21/2005
56,736 | Ardmore Blouses, Inc. (Wkrs) | Pen Argyl, PA | 03/10/2005 | 02/24/2005
56,737 | Karibe, Inc. (Comp) | West Pittston, PA | 03/10/2005 | 03/09/2005
56,738 | Radisys Corporation (Comp) | Hillsboro, OR | 03/11/2005 | 03/10/2005
56,739 | Flexaust Appliance, Inc. (Comp) | El Paso, TX | 03/11/2005 | 02/10/2005
56,740 | Mohawk Valley Textile Printing (Wkrs) | Schenectady, NY | 03/11/2005 | 02/28/2005
56,741 | Maxtor Corporation (Comp) | Milpitas, CA | 03/11/2005 | 03/08/2005
56,742 | Salvavida USA, Inc. (Comp) | Folly Beach, SC | 03/11/2005 | 02/28/2005
56,743 | Ranstad (State) | Gardena, CA | 03/11/2005 | 03/01/2005
56,744 | ACS (Wkrs) | Florence, SC | 03/11/2005 | 03/09/2005
56,745 | Trane—Industrial Sheet Metal (Comp) | Rockingham, NC | 03/11/2005 | 03/01/2005
56,746 | Tama Manufacturing Co., Inc. (Comp) | Allentown, PA | 03/11/2005 | 03/08/2005
56,747 | Compx (Wkrs) | Mauldin, SC | 03/11/2005 | 03/09/2005
56,748 | Amdocs, Inc. (Wkrs) | Anaheim, CA | 03/11/2005 | 02/18/2005
56,749 | Hansen International, Inc. (Wkrs) | Lexington, SC | 03/11/2005 | 03/10/2005
56,750 | Finishing Touch Hosiery (Comp) | Fyffe, AL | 03/11/2005 | 03/08/2005
56,751 | Hitach Global Storage Technologies, Inc. | San Jose, CA | 03/11/2005 | 03/10/2005
56,752 | Team Manufacturing, Inc. (State) | Rancho Dominque, CA | 03/11/2005 | 03/09/2005

[FR Doc. E5-1364 Filed 3-25-05; 8:45 am]

BILLING CODE 4510-30-P